DEPARTMENT OF ENERGY

Notice of Availability: Application Requirements for the American Assured Fuel Supply

AGENCY: U.S. Department of Energy.

ACTION: Notice of availability.

SUMMARY: Through this notice, the Department of Energy announces the availability of application requirements to access the American Assured Fuel Supply.

FOR FURTHER INFORMATION CONTACT: Rich Goorevich, Senior Policy Advisor, Office of Nonproliferation and International Security, National Nuclear Security Administration, U.S. Department of Energy, 1000 Independence Ave. SW., Washington DC 20585, Tel: 202-586-0589, Fax: 202-586-1348.

SUPPLEMENTARY INFORMATION:

I. Background

In August 2011, the Department of Energy (DOE) published a Notice of Availability announcing the Assured Fuel Supply (AFS), a backup supply of low-enriched uranium (LEU) available to domestic and foreign end-users in the event of a supply disruption in the nuclear fuel market. 76 FR 51357 (Aug. 18, 2011). The LEU that recipients will purchase from the AFS will be in the form of uranium hexafluoride at a specific assay (4.95% U-235). The U.S. Government will make no assurances about the material in the AFS beyond ensuring that Westinghouse, the private company storing the AFS LEU for DOE, can certify that the AFS LEU meets the ASTM International Standard Specification C996-04E1.

As part of the AFS program implementation, DOE is publishing this notice to provide guidance on the information it will consider in evaluating the requests of potential applicants for access to the AFS.

II. Policy and Process for Accessing AFS Material

The DOE requests that persons or companies that seek to purchase low enriched uranium (LEU) from the U.S. Department of Energy's American Assured Fuel Supply (AFS) provide information sufficient to evaluate the request to the Office of Nonproliferation and International Security, National Nuclear Security Administration 1000 Independence Ave. SW., Washington, DC 20585, Tel: 202-586-0589, Fax: 202-586-1348.

DOE will require the following information from the requester to evaluate a request:

1. Provide name and contact information for end-user of desired LEU.

2. If end-user is not in the United States, provide country and name of end-user.

3. Is there any other logistical information that DOE should be made aware of?

4. Is the foreign recipient requesting LEU from the AFS experiencing a fuel supply disruption for which LEU cannot be obtained through normal market conditions? If yes, please provide facts that demonstrate that LEU is unavailable in the timeframe that it is needed.

5.a. For all U.S. end-users, is a Nuclear Regulatory Commission license authorizing possession and use in place?

5.b. If end-user is not in the United States, describe steps to be taken to obtain the necessary Nuclear Regulatory Commission export license.

5.c. If end-user is not in the United States, does the country have any outstanding issues with the International Atomic Energy Agency over their comprehensive safeguards agreement? If yes, please describe the nature of these issues.

6. What is the desired quantity of LEU and when is anticipated fueling into reactor? Please note that the LEU will be in the form of uranium hexafluoride at a specific assay (4.95% U-235). The U.S. Government does not assume responsibility or make any warranty, express or implied beyond assuring that Westinghouse, the company storing AFS LEU, can certify that the AFS LEU meets the ASTM International Standard Specification C996-04E1.

7. When does requester want to take title of LEU from DOE?

8. Please provide evidence that requester can make all necessary and required arrangements to accept custody and take possession of the LEU from the place of storage, (Westinghouse's Columbia, South Carolina site) once title is transferred.

DOE reserves the right to request additional information or clarification of required information as deemed necessary to process the request.

III. Paperwork Reduction Act

A. OMB Control Number

OMB has reviewed and approved this collection and issued the OMB control number 1910-5173; the OMB control number expires on July 29, 2016.

An agency may not conduct or sponsor a collection of information unless the collection of information displays a currently valid OMB control number and the agency informs potential persons who are to respond to the collection of information that such persons are not required to respond to the collection of information unless it displays a currently valid OMB control number.

B. Burden Disclosure Statement

Public reporting burden for this collection of information is estimated to average 8 hours per response, including the time for reviewing instructions, searching existing data sources, gathering and maintaining the data needed, and completing and reviewing the collection of information. Send comments regarding this burden estimate or any other aspect of this collection of information, including suggestions for reducing this burden, to Office of the Chief Information Officer, Records Management Division, IM-23, Paperwork Reduction Project (1910-5173), U.S. Department of Energy, 1000 Independence Ave. SW., Washington, DC 20585-1290; and to the Office of Management and Budget (OMB), Office of Information and Regulatory Affairs (OIRA), Paperwork Reduction Project (1910-5173), Washington, DC 20503.

Issued in Washington, DC, on November 22, 2013.
Anne Harrington,
Deputy Administrator for Defense Nuclear Nonproliferation.

[FR Doc. 2013-28770 Filed 11-29-13; 8:45 am]

BILLING CODE 6450-01-P